DEPARTMENT OF COMMERCE

International Trade Administration

[A-570-965]

Drill Pipe From the People's Republic of China: Notice of Correction to the Preliminary Determination of Sales at Less Than Fair Value and Affirmative Determination of Critical Circumstances, and Postponement of Final Determination

AGENCY: Import Administration, International Trade Administration, Department of Commerce.

DATES: Effective Date: August 18, 2010.

FOR FURTHER INFORMATION CONTACT: Toni Dach, Susan Pulongbarit, or Matthew Renkey, AD/CVD Operations, Office 9, Import Administration, International Trade Administration, U.S. Department of Commerce, 14th Street and Constitution Avenue, NW., Washington, DC 20230; telephone: (202) 482-1655, (202) 482-4031, or (202) 482-2312, respectively.

SUPPLEMENTARY INFORMATION:

Correction

On August 6, 2010, the Department of Commerce (“the Department”) released the preliminary determination of the investigation for drill pipe from the People's Republic of China (“PRC”) to interested parties. See Drill Pipe from the People's Republic of China: Preliminary Determination of Sales at Less than Fair Value and Affirmative Determination of Critical Circumstances, and Postponement of Final Determination, signed August 5, 2010 (“Preliminary Determination”). Subsequent to the announcement and release of the Preliminary Determination, the Department identified an inadvertent error.

Specifically, the Preliminary Determination incorrectly stated that the Department determined a weighted-average dumping margin of 7.64 percent for Baoshan Iron & Steel Co. (“Baoshan”) and a dumping margin for the separate rate respondents ¹ of 106.82 percent. However, the correct rate, as noted in Baoshan's Analysis Memorandum is 2.66 percent. See Memorandum to the File, through Scot T. Fullerton, from Susan Pulongbarit, regarding Antidumping Investigation of Drill Pipe from the People's Republic of China: Analysis for the Preliminary Determination of Baoshan Iron & Steel Co., Ltd., dated August 5, 2010. Because we used Baoshan's rate to calculate the separate rate margin, we have also corrected the average dumping margin for the separate rate respondents to 104.33 percent. To resolve these discrepancies, the Preliminary Determination is hereby corrected to identify Baoshan's weighted-average dumping margin as 2.66 percent and the average dumping margin for the separate rate respondents as 104.33 percent. We are publishing this correction simultaneously with the Preliminary Determination.

¹ The separate rate respondents are Shanxi Fenglei Drilling Tools Co., Ltd., Jiangsu Shuguang Huayang Drilling Tool, Co. Ltd., and Jiangyin Long-Bright Drill Pipe Manufacturing Co., Ltd.

This notice is published in accordance with section 777(i) of the Tariff Act of 1930, as amended.

Dated: August 11, 2010.
Ronald K. Lorentzen,
Deputy Assistant Secretary for Import Administration.

[FR Doc. 2010-20500 Filed 8-17-10; 8:45 am]

BILLING CODE P